DEPARTMENT OF HEALTH AND HUMAN SERVICES

Health Resources and Services Administration

National Advisory Committee on Rural Health and Human Services

AGENCY: Health Resources and Service Administration (HRSA), Department of Health and Human Services (HHS).

ACTION: Notice of meeting.

SUMMARY: In accordance with the Federal Advisory Committee Act, notice is hereby given that a meeting is scheduled for the National Advisory Committee on Rural Health and Human Services (NACRHHS). This meeting will be open to the public. Information about the NACRHHS and the agenda for this meeting can be obtained by accessing the NACRHHS website at http://www.hrsa.gov/advisorycommittees/rural/.

DATES: The meeting will be held on April 16, 2018, from 8:45 a.m.-5:00 p.m. EDT, April 17, 2018, from 8:30 a.m.-5:15 p.m. EDT, and April 18, 2018, from 8:30 a.m.-11:00 a.m. EDT.

ADDRESSES: This meeting will be held at The Saratoga Hilton. The address for the meeting is 534 Broadway Saratoga Springs, NY 12866-2209, (855) 605-0316.

FOR FURTHER INFORMATION CONTACT: Steve Hirsch, MSLS, Administrative Coordinator, NACRHHS, HRSA, 17W29-C, 5600 Fishers Lane, Rockville, MD 20857, Telephone (301) 443-0835, Fax (301) 443-2803.

SUPPLEMENTARY INFORMATION: NACRHHS provides counsel and recommendations to the Secretary with respect to the delivery, research, development, and administration of health and human services in rural areas. During the meeting the Committee will examine the issues of Assessing and Mitigating the Effect of Adverse Childhood Experiences and Health Insurance Markets in Rural Areas; conduct site visits to the Adirondack Health Institute in Glens Falls, New York and St. Vincent de Paul Catholic Church in Cobleskill, New York, to visit the Head Start Program; and summarize key findings and develop a work plan for the next quarter. Members of the public will also have the opportunity to provide comments.

Amy P. McNulty,
Acting Director, Division of the Executive Secretariat.

[FR Doc. 2018-06651 Filed 3-30-18; 8:45 am]

BILLING CODE 4165-15-P